DEPARTMENT OF VETERANS AFFAIRS

[OMB Control No. 2900-0265]

Proposed Information Collection (Educational/Vocational Counseling Application): Comment Request

AGENCY: Veterans Benefits Administration, VA.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments for information needed to apply for counseling services.

DATES: Written comments and recommendations on the proposed collection of information should be received on or before March 17, 2015.

ADDRESSES: Submit written comments on the collection of information through www.Regulations.gov or to Nancy J. Kessinger, Veterans Benefits Administration (20M35), Department of Veterans Affairs, 810 Vermont Avenue NW., Washington, DC 20420 or email to nancy.kessinger@va.gov. Please refer to “OMB Control No. 2900-0265” in any correspondence. During the comment period, comments may be viewed online through the Federal Docket Management System (FDMS) at www.Regulations.gov.

FOR FURTHER INFORMATION CONTACT: Nancy J. Kessinger at (202) 632-8924 or FAX (202) 632-8925.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Educational/Vocational Counseling Application, VA Form 28-8832.

OMB Control Number: 2900-0265.

Type of Review: Revision of a currently approved collection.

Abstract: VA Form 28-8832, Application for Counseling, collects information that the Vocational Rehabilitation and Employment (VR&E) Division needs to quickly assess the applicant's probable entitlement to counseling, to call up further records if necessary, and to contact the applicant to schedule a counseling appointment. Under 38 United States Code 501(a), the Secretary shall obtain information sufficient to establish the right to benefits. A veteran or dependent may use this form as a convenience to apply for counseling services. Without the form, the application could be delayed, particularly in instances where incomplete data is submitted.

Affected Public: Individuals or Households.

Estimated Annual Burden: 2,550 hours.

Estimated Average Burden Per Respondent: 30 minutes.

Frequency of Response: One time.

Estimated Number of Respondents: 5,100.

Dated: January 13, 2015.
By direction of the Secretary.
Crystal Rennie,
Department Clearance Officer, Department of Veterans Affairs.

[FR Doc. 2015-00641 Filed 1-15-15; 8:45 am]

BILLING CODE 8320-01-P